DEPARTMENT OF LABOR

Employment and Training Administration

[TA-W-82,845]

Keithley Instruments; Solon, Ohio; Notice of Investigation

Pursuant to Section 221 of the Trade Act of 1974, as amended, an investigation was initiated on June 25, 2013 in response to a Trade Adjustment Assistance (TAA) petition filed by a company official on behalf of workers of Keithley Instruments, Solon, Ohio. On July 5, 2013, the Department issued a Notice of Termination of Investigation on the basis that the subject worker group was eligible to apply for TAA under TA-W-80,264. Based on information provided by the subject firm, the Department has determined that the termination was issued in error. Consequently, the Department is withdrawing the Notice of Termination of Investigation and will issue a determination accordingly.

Signed in Washington, DC, this 13th day of August 2013.
Del Min Amy Chen,
Certifying Officer, Office of Trade Adjustment Assistance.

[FR Doc. 2013-20814 Filed 8-26-13; 8:45 am]

BILLING CODE 4510-FN-P